DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy. U.S. Patent Application Number 12/606,218 filed on October 27, 2009, Navy Case Number 96899 entitled “Oxygen monitor”; U.S. Patent Application Number 11/482,303 filed on July 11, 2006, Navy Case Number 97495 entitled “Hoisting harness assembly tool”; U.S. Patent Application Number 12/432,019 filed on April 29, 2009, Navy Case Number PAX06 entitled “Method for producing Nanoparticles”; U.S. Patent Application Number 12/471,607 filed on May 26, 2009, Navy Case Number PAX11 entitled “Embedded ground proximity warning system for helicopters”; U.S. Patent Application Number 12/469,197 filed on May 20, 2009, Navy Case Number PAX14 entitled “Fast rope”; U.S. Patent Application Number 12/433,142 filed on April 30, 2009, Navy Case Number PAX21 entitled “Improved aircraft pod store separation characteristics”; U.S. Patent Application Number 12/639,476 filed on December 16, 2009, Navy Case Number PAX42 entitled “Siloxane solvent compositions”; U.S. Patent Number 7,380,467 entitled “Bond integrity tool” issued on June 3, 2008; U.S. Patent Number 7,494,670 entitled “Composition and process for removing and preventing mildew and fungal growth” issued on February 24, 2009; U.S. Patent Number 7,523,876 entitled “Adjustable liquid atomization nozzle” issued on April 28, 2009; U.S. Patent Number 7,524,516 entitled “Corrosion inhibiting mildew remover kit” issued on April 28, 2009; U.S. Patent Number 7,548,801 entitled “Just in time wiring information system” issued on June 16, 2009; U.S. Patent Number 7,564,455 entitled “Global visualization process for personal computer platforms (GVP+)” issued on July 21, 2009; U.S. Patent Number 7,568,418 entitled “Radically compressive rope assembly” issued on August 4, 2009; U.S. Patent Number 7,606,411 entitled “Robotic gesture recognition system” issued on October 20, 2009; U.S. Patent Number 7,606,642 entitled “Just in time wiring information system” issued on October 20, 2009; U.S. Patent Number 7,618,580 entitled “Method for fabrication of a polymeric conductive optical transparency” issued on November 17, 2009; U.S. Patent Number 7,626,398 entitled “Systems for isolating faults between electrical equipment” issued on December 1, 2009; U.S. Patent Number 7,629,004 entitled “Composition and process for removing and preventing mildew and fungal growth” issued on December 8, 2009.

ADDRESSES: Requests for data and inventor interviews should be directed to Mr. Paul Fritz, Naval Air Warfare Center Aircraft Division, Business and Partnership Office, Office of Research and Technology Applications, Building 505, 22473 Millstone Road, Patuxent River, MD 20670, 301-342-5586 or e-mail Paul.Fritz@navy.mil.

DATES: Requests for data, samples, and inventor interviews should be made prior to June 1, 2010.

FOR FURTHER INFORMATION CONTACT: Mr. Paul Fritz, Office of Research and Technology Applications, Building 505, Naval Air Warfare Center Aircraft Division, 22473 Millstone Road, Patuxent River, MD 20670, 301-342-5586, Paul.Fritz@navy.mil.

SUPPLEMENTAL INFORMATION: The U.S. Navy intends to move expeditiously to license these inventions. All licensing application packages and commercialization plans must be returned to Naval Air Warfare Center Aircraft Division, Business and Partnership Office, Office of Research and Technology Applications, Building 505, 22473 Millstone Road, Patuxent River, MD 20670.

The Navy, in its decisions concerning the granting of licenses, will give special consideration to existing licensees, small business firms, and consortia involving small business firms. The Navy intends to ensure that its licensed inventions are broadly commercialized throughout the United States.

PCT application may be filed for each of the patents as noted above. The Navy intends that licensees interested in a license in territories outside of the United States will assume foreign prosecution and pay the cost of such prosecution.

Authority: 35 U.S.C. 207, 37 CFR Part 404.

Dated: February 16, 2010.
A.M. Vallandingam,
Lieutenant Commander, Office of the Judge Advocate General, U.S. Navy, Federal Register Liaison Officer.

[FR Doc. 2010-3660 Filed 2-23-10; 8:45 am]

BILLING CODE 3810-FF-P